DEPARTMENT OF ENERGY

Federal Energy Regulatory Commission

Combined Notice of Filings #1

Take notice that the Commission received the following electric rate filings:

Docket Numbers: ER10-1790-007; ER12-1400-001; ER10-2595-001.

Applicants: BP Energy Company, Flat Ridge Wind Energy, LLC, Flat Ridge 2 Wind Energy LLC.

Description: Notification of non-material change in status of BP Energy Company, et al.

Filed Date: 9/4/12.

Accession Number: 20120904-5314.

Comments Due: 5 p.m. ET 9/25/12.

Docket Numbers: ER12-2095-001.

Applicants: ITC Midwest LLC.

Description: Compliance Filing of Executed Agreement to be effective 8/27/2012.

Filed Date: 9/4/12.

Accession Number: 20120904-5202.

Comments Due: 5 p.m. ET 9/25/12.

Docket Numbers: ER12-2577-000.

Applicants: NorthWestern Corporation.

Description: SA 648 Central Montana EPC to be effective 9/5/2012.

Filed Date: 9/4/12.

Accession Number: 20120904-5244.

Comments Due: 5 p.m. ET 9/25/12.

Docket Numbers: ER12-2578-000; ER12-1572-001.

Applicants: ITC Midwest LLC.

Description: New Section 205 and Compliance Filing [ER12-1572] of O&M Agreement with SMMPA to be effective 4/20/2012.

Filed Date: 9/4/12.

Accession Number: 20120904-5256.

Comments Due: 5 p.m. ET 9/25/12.

Docket Numbers: ER12-2579-000.

Applicants: NorthWestern Corporation.

Description: SA 644—Carter Grain Terminal Project—resubmission to be effective 8/13/2012.

Filed Date: 9/5/12.

Accession Number: 20120905-5000.

Comments Due: 5 p.m. ET 9/26/12.

Docket Numbers: ER12-2580-000.

Applicants: Midwest Independent Transmission System Operator, Inc.

Description: Midwest Independent Transmission System Operator, Inc. submits LRZ CONE Calculation.

Filed Date: 9/4/12.

Accession Number: 20120904-5313.

Comments Due: 5 p.m. ET 9/25/12.

The filings are accessible in the Commission's eLibrary system by clicking on the links or querying the docket number.

Any person desiring to intervene or protest in any of the above proceedings must file in accordance with Rules 211 and 214 of the Commission's Regulations (18 CFR § 385.211 and § 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 5, 2012.
Nathaniel J. Davis, Sr.,
Deputy Secretary.

[FR Doc. 2012-22400 Filed 9-11-12; 8:45 am]

BILLING CODE 6717-01-P